DEPARTMENT OF HEALTH AND HUMAN SERVICES

Substance Abuse and Mental Health Services Administration

Center for Mental Health Services; Notice of Meeting

Pursuant to Public Law 92-463, notice is hereby given that the Substance Abuse and Mental Health Services Administration (SAMHSA), Center for Mental Health Services (CMHS) National Advisory Council (NAC) will meet on August 1, 2018, from 9:00 a.m. to 5:00 p.m. E.D.T. The NAC will convene in both open and closed sessions on August 1, 2018.

The closed portion of the meeting will include discussion of grant applications that were reviewed by SAMHSA's Initial Review Groups, and involves an examination of confidential financial and business information as well as personal information concerning the applications. Therefore, the meeting will be closed to the public from 9:00 a.m. to 9:30 a.m., as determined by the Assistant Secretary for Mental Health and Substance Use, SAMHSA in accordance with Title 5 U.S.C. § 552b(c)(4) and (6) and Title 5 U.S.C. App. 2, § 10(d).

The remainder of this meeting will be open to the public from 9:30 a.m. to 5:00 p.m., E.D.T., to include discussion of the Center's policy issues, updates on the Interdepartmental Serious Mental Illness Coordinating Committee, presentations on Suicide Prevention, School Mental Health/Child Trauma and a conversation with the Assistant Secretary for Mental Health and Substance Use.

Attendance by the public will be limited to available space. Interested persons may present data, information, or views, orally or in writing, on issues pending before the council. Written submissions should be forwarded to the contact person (below) on or before July 17, 2018. Oral presentations from the public will be scheduled at the conclusion of the meeting on Wednesday, August 1, 2018. Five minutes will be allotted for each presentation. Meeting information and a roster of Council members may be obtained either by accessing the SAMHSA Council website at http://www.samhsa.gov/about-us/advisory-councils/cmhs-national-advisory-council or by contacting Ms. Pamela Foote (see contact information below).

The meeting can be accessed via telephone. To obtain the conference call-in number and access code, submit written or brief oral comments, or request special accommodations for persons with disabilities, please register at the SAMHSA's Advisory Council website at http://nac.samhsa.gov/Registration/meetingsRegistration.aspx, or contact Pamela Foote (see contact information below).

Committee Name: Substance Abuse and Mental Health Services Administration Center for Mental Health Services National Advisory Council.

Dates/Time/Type: Wednesday, August 1, 2018, 9:00 a.m. to 9:30 a.m. EDT: CLOSED; Wednesday, August 1, 2018, 9:30 a.m. to 5:00 p.m. EDT: OPEN.

Place: SAMHSA, 5600 Fishers Lane, 5th Floor, Conference Room 5W11, Rockville, Maryland 20857.

Contact: Pamela Foote, Designated Federal Official, SAMHSA CMHS National Advisory Council, 5600 Fishers Lane, Room 14E53C, Rockville, Maryland 20857, Telephone: (240) 276-1279, Fax: (301) 480-8491, Email: pamela.foote@samhsa.hhs.gov.

Carlos Castillo,
Committee Management Officer.

[FR Doc. 2018-14381 Filed 7-3-18; 8:45 am]

BILLING CODE 4162-20-P